DEPARTMENT OF THE INTERIOR

Bureau of Indian Affairs

Tribal Consultation Sessions—Administrative Organizational Assessment Draft Report, Organizational Streamlining of BIA and BIE, and BIE Topics

AGENCY: Bureau of Indian Affairs, Interior.

ACTION: Notice.

SUMMARY: The Bureau of Indian Education (BIE) will be adding three tribal consultation sessions to the previously scheduled sessions. The additional sessions will focus on the proposed Memorandum of Understanding (MOU) between the Department of Education (ED) and the Department of the Interior (DOI) to improve American Indian and Alaska Native education. The MOU is authorized by the President's Executive Order on Improving American Indian and Alaska Native Educational Opportunities and Strengthening Tribal Colleges and Universities (Executive Order 135092) and section 9204 of the Elementary and Secondary Education Act.

DATES: See the SUPPLEMENTARY INFORMATION section of this notice for dates of the tribal consultation sessions. We will consider all comments on the proposed MOU between DOI and ED received by close of business on June 15, 2012.

ADDRESSES: See the SUPPLEMENTARY INFORMATION section of this notice for locations of the tribal consultation sessions. Submit comments by email to: consultation@bia.gov or by U.S. mail to: Organizational Streamlining Comments, Office of the Assistant Secretary—Indian Affairs, U.S. Department of the Interior, Mail Stop 4141 MIB, Washington, DC 20240.

FOR FURTHER INFORMATION CONTACT: For the proposed MOU between ED and DOI, contact: Brian Drapeaux, Chief of Staff, Bureau of Indian Education, DOI (202) 208-6123; or Don Yu, Special Advisor to the Secretary, Office of the Secretary, ED (202) 453-6600. For the Administrative Organizational Assessment Draft Report, contact: Paul Tsosie, Chief of Staff, Office of the Assistant Secretary—Indian Affairs, (202) 208-7163. For the BIA Streamlining, contact: Bryan Rice, Deputy Bureau Director, Office of Trust Services, Bureau of Indian Affairs, (202) 208-7513.

SUPPLEMENTARY INFORMATION: On March 12, 2012, the Office of the Assistant Secretary—Indian Affairs (AS-IA), the Bureau of Indian Affairs (BIA), and BIE announced they are hosting several upcoming tribal consultation sessions (see 77 FR 14561). This notice announces that the DOI-ED MOU will be added to the May 18, 2012, consultation session from 1 to 2:30 p.m. Also, three additional sessions focused on the proposed MOU between ED and DOI will be held as follows:

Date | Location | Local time
Friday, May 18, 2012 | Thunder Valley Casino Resort, 1200 Athens Avenue, Lincoln, California 95648, (877) 468-8777, Booking code: “120516BURE” | 8 a.m.-12 p.m.
Thursday, May 24, 2012 | Northern Arizona University, Auditorium, Ashurst Hall, Building #11, 321 McMullen Circle, Flagstaff, Arizona, 86001, Phone: 928-523-4120 | 8 a.m.-12 p.m.
Thursday, May 31, 2012 | BLN Office Park, Conference Room 3, 2001 Killebrew Drive, Bloomington, Minnesota 55425, Phone: 952-851-5427 (BIE ADD Office) | 8 a.m.-12 p.m.
Tuesday, June 5, 2012 | Renaissance Inn, 611 Commerce Street, Nashville, Tennessee 37203, Phone: 615-255-8400 | 1 p.m.-5 p.m.

A brief description of each of the topics is available at: http://www.bia.gov/WhoWeAre/AS-IA/Consultation/index.htm and in the March 12, 2012, Federal Register Notice (77 FR 14561).

Dated: April 11, 2012.
Larry Echo Hawk,
Assistant Secretary—Indian Affairs.

[FR Doc. 2012-9218 Filed 4-16-12; 8:45 am]

BILLING CODE 4310-6W-P